DEPARTMENT OF LABOR

Employment and Training Administration

[TA-W-65,660]

Muth Mirror Systems; Sheboygan, WI; Notice of Termination of Investigation

Pursuant to Section 221 of the Trade Act of 1974, as amended, an investigation was initiated on March 24, 2009, in response to a petition filed on behalf of workers of Muth Mirror Systems, Sheboygan, Wisconsin.

The petitioner has requested that the petition be withdrawn. Consequently, the investigation has been terminated.

Signed at Washington, DC, this 2nd day of April, 2009.
Elliott S. Kushner,
Certifying Officer, Division of Trade Adjustment Assistance.

[FR Doc. E9-10391 Filed 5-5-09; 8:45 am]

BILLING CODE 4510-FN-P